DEPARTMENT OF TRANSPORTATION

Surface Transportation Board

[STB Finance Docket No. 34374]

Union Pacific Railroad Company—Temporary Trackage Rights Exemption—The Burlington Northern and Santa Fe Railway Company

The Burlington Northern and Santa Fe Railway Company (BNSF), has agreed to grant temporary overhead trackage rights to Union Pacific Railroad Company (UP) over BNSF's rail lines between BNSF milepost 117.1 near Shawnee Jct., WY, and BNSF milepost 33.8 near Northport, NE, a distance of approximately 146.2 miles.¹

The transaction was scheduled to be consummated on July 21, 2003,² and the authorization was expected to expire on or about July 28, 2003. The purpose of the temporary rights was to facilitate maintenance work on UP lines.

¹ The trackage rights involve BNSF subdivisions with non-contiguous mileposts. Therefore, total mileage does not correspond to the milepost designations of the endpoints.

² The notice was filed with the Board on July 15, 2003. Accordingly, the earliest the transaction could be consummated was July 22, 2003 (7 days after filing under 49 CFR 1180.4(g)).

As a condition to this exemption, any employees affected by the temporary trackage rights will be protected by the conditions imposed in Norfolk and Western Ry. Co.—Trackage Rights-BN, 354 I.C.C. 605 (1978), as modified in Mendocino Coast Ry., Inc.—Lease and Operate, 360 I.C.C. 653 (1980), aff'd sub nom. Railway Labor Executives' Ass'n v. United States, 675 f.2d 1248 (D.C. Cir. 1982).

This notice is filed under 49 CFR 1180.2(d)(8).³ If it contains false or misleading information, the exemption is void ab initio. Petitions to revoke the exemption under 49 U.S.C. 10502(d) may be filed at any time. The filing of a petition to revoke will not automatically stay the transaction.

³ The Board adopted a new class exemption for trackage rights that, by their terms, are for overhead operations only and expire on a date certain, not to exceed 1 year from the effective date of the exemption. See Railroad Consolidation Procedures—Exemption for Temporary Trackage Rights, STB Ex Parte No. 282 (Sub-No. 20) (STB served May 23, 2003).

An original and 10 copies of all pleadings, referring to STB Finance Docket No. 34374, must be filed with the Surface Transportation Board, 1925 K Street, NW, Washington, DC 20423-0001. In addition, a copy of each pleading must be served on Robert T. Opal, 1416 Dodge St., Room 830, Omaha NE 68179.

Board decisions and notices are available on our Web site at “www.stb.dot.gov.”

Decided: July 29, 2003.
By the Board, David M. Konschnik, Director, Office of Proceedings.
Vernon A. Williams,
Secretary.

[FR Doc. 03-19778 Filed 8-1-03; 8:45 am]

BILLING CODE 4915-00-P